DEPARTMENT OF DEFENSE

Department of the Air Force

Privacy Act of 1974; System of Records

AGENCY: Department of the Air Force, DoD.

ACTION: Notice to add/delete a system of records.

SUMMARY: The Department of the Air Force is proposing to delete one system of records and add another system of records to its existing inventory of record systems subject to the Privacy Act of 1974, (5 U.S.C. 552a), as amended.

DATES: This proposed action will be effective without further notice on December 30, 2002, unless comments are received which result in a contrary determination.

ADDRESSES: Send comments to the Air Force Privacy Act Manager, AF-CIO/P, 1155 Air Force Pentagon, Washington, DC 20330-1155.

FOR FURTHER INFORMATION CONTACT: Mrs. Anne Rollins at (703) 601-4043 or DSN 329-4043.

SUPPLEMENTARY INFORMATION: The Department of the Air Force systems of records notices subject to the Privacy Act of 1974, (5 U.S.C. 552a), as amended, have been published in the Federal Register and are available from the address above.

The proposed system reports, as required by 5 U.S.C. 552a(r) of the Privacy Act of 1974, as amended, was submitted on November 13, 2002, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 18, 2002.
Patricia L. Toppings,
Alternate OSD Federal Register Liaison Officer, Department of Defense.

Deletion

F031 11 SPS B

SYSTEM NAME:

Personnel Security Clearance and Investigation Records (June 11, 1997, 62 FR 31793).

Reason:

Records are being incorporated into the Department of the Air Force system of records notice F031 DoD A, entitled, “Joint Personnel Adjudication System.”

Addition

F031 DoD A

System Name:

Joint Personnel Adjudication System (JPAS).

SYSTEM LOCATION:

Primary location: Department of the Air Force, Air Force Central Adjudication Facility, DoD Joint Personnel Adjudication System Program Office, 229 Brookley Avenue, Bolling Air Force Base, Washington, DC 20332-7040.

Secondary locations: The Department of Defense eight central adjudication facilities are located as follows:

Department of the Army, Central Personnel Security Clearance Facility, Fort George G. Meade, MD 20755-5250; Department of the Navy, Naval Criminal Investigative Service, Central Adjudication Facility, 716 Sicard Street, SE., Washington Navy Yard, DC 20388-5329;

Office of the Secretary of Defense, Washington Headquarters Service, Consolidated Adjudication Facility, 1777 North Kent Street, Suite 12047, Arlington, VA 22209-2164;

Defense Intelligence Agency, 3100 Clarendon Boulevard, Arlington, VA 22201-5320;

Defense Office of Hearing Appeals, 4015 Wilson Boulevard, Arlington, VA 22203-0656;

National Security Agency, Fort George G. Meade, MD 20755-6000;

Joint Chiefs of Staff, Directorate for Information Management, Joint Staff Security Office, 9300 Joint Staff, Room 1B738, Washington, DC, 20301-9300; and

Defense Security Service, Defense Industrial Security Office, 2780 Airport Drive, Suite 400, Columbus, OH 43219-2268.

Security offices of all DoD activities, to include those located in the continental United States (CONUS); overseas military locations and units deployed on DoD missions; all centralized and non-centralized DoD special security offices, and appropriately cleared DoD contractor facilities. Additionally, duplicate portions of records are contained in DoD automated personnel information systems, and the Defense Central Index of Investigations (DCII). A record of all registered locations is available from the DoD Joint Personnel Adjudication System Program Office, 229 Brookley Avenue, Bolling Air Force Base, Washington, DC 20332-7040.

Categories of Individuals Covered by the System:

All Department of Defense active and reserve military personnel; civilian employees and applicants; DoD contractor employees and applicants; National Guard personnel; U.S. Coast Guard military and civilian personnel and applicants requiring access to National Security and/or Sensitive Compartmented Information; “affiliated” personnel (such as Non-Appropriated Fund employees, Red Cross volunteers and staff; USO personnel, and congressional staff members); and foreign nationals whose duties require access to National Security Information (NSI) and/or assignment to a sensitive position.

Categories of Records in the System:

Records documenting the personnel security adjudicative and management process, to include an individual's Social Security Number; name (both, current, former and alternate names); date of birth; state of birth; country of citizenship; type of DoD affiliation; employing activity; current employment status; position sensitivity; personnel security investigative basis; status of current adjudicative action; security clearance eligibility and access status; exceptions (if the eligibility determination was based on a condition, deviation from prescribed investigative standards or waiver of adjudication guidelines; reports of security-related incidents, to include issue files; suspension of eligibility and/or access; denial or revocation of eligibility and/or access; eligibility recommendations or decisions made by an appellate authority; non-disclosure execution dates; indoctrination date(s); level(s) of access granted; debriefing date(s); and reasons for debriefing.

Authority for Maintenance of the System:

10 U.S.C. 8013, Secretary of the Air Force; 5 U.S.C. 301, Departmental Regulations; 50 U.S.C. 401, Congressional declaration of purpose; 50 U.S.C. 435, Purposes; 36 CFR part 1234, Electronic Records Management; DoD 5200.2R, Department of Defense Personnel Security Program Regulation; DoD 5105.21-M-1, Sensitive Compartment Information Administrative Security Manual; E.O. 9397 (SSN); E.O. 10450, Security Requirements for Government Employment; E.O. 10865, Safeguarding Classified Information Within Industry; E.O. 12333, United States Intelligence Activities; E.O. 12829, National Industrial Security Program; and E.O. 12968, Access to Classified Information.

Purpose(s):

The Joint Personnel Adjudication System (JPAS) is the automated system used for personnel security management within DoD, providing a common, comprehensive medium to record and document personnel security actions within the Department. JPAS also compiles statistical data for use in analyses and studies.

Routine Uses of Records Maintained in the System Including Categories of Users and the Purposes of Such Uses:

In addition to disclosures generally permitted under 5 U.S.C. 552a(b) of the Privacy Act, these records or information contained therein may specifically be disclosed outside the DoD as follows to:

To the White House to obtain approval of the President of the United States regarding certain military personnel office actions as provided for in DoD Instruction 1320.4; “Military Officer Actions Requiring Approval of the Secretary of Defense or the President, or Confirmation by the Senate.”

To the Immigration and Naturalization Service for use in alien admission and naturalization inquiries.

To the Federal Bureau of Investigation; the National Aeronautics and Space Administration; the Central Intelligence Agency; the Office of Personnel Management; the Department of State, the Department of Treasury; the Internal Revenue Service; the U.S. Postal Service; the U.S. Secret Service; the Bureau of Alcohol, Tobacco and Firearms; the U.S. Customs Service; and any other related Federal agencies for the purpose of determining access to National Security information (NSI) pursuant to E.O. 12968.

The DoD “Blanket Routine Uses” set forth at the beginning of the Air Force's compilation of systems of records notices also apply to this system.

Policies and Practices for Storing, Retrieving, Accessing, Safeguarding, Retaining and Disposing of Records in the System:

Storage:

Records contained in the system are stored on electronic media (such as CD-ROM disks, optical digital data disks, computers, and computer output products).

Retrievability:

Information is retrieved by full name, Social Security Number, date of birth, state and country of birth.

Safeguards:

Electronically and optically stored records are maintained in “fail-safe” system software with password-protected access. Records are accessible only to authorized persons with a valid need-to-know, who are appropriately screened, investigated and determined eligible for access. During non-duty hours, alarms systems and/or security or military police guards secure all locations. Only authorized personnel with a valid need-to-know are allowed access to JPAS. Additionally, JPAS users are subject to limitations within the system, based on their specific functions and security eligibility and access level.

Retention and Disposal:

Automated records are actively retained during the entire period an individual maintains DoD affiliation. When either (1) the affiliation ends or (2) an applicant is not accepted for DoD affiliation, the automated records are actively retained for two years. At the end of the two-year period, the automated record is moved to an electronic archive with retrieval capability. Destruction of automated records is by erasure and/or degaussing.

System Manager(s) and Address:

Chief, Programs and Resources, AFCAF and JPAS Program Manager, Department of the Air Force, Air Force Central Adjudication Facility, DoD Joint Personnel Adjudication System Program Office, 229 Brookley Avenue, Bolling Air Force Base, Washington, DC 20332-7040.

Notification Procedure:

Individuals seeking to determine whether information about themselves is contained in this system should address written inquiries to the Department of the Air Force, Air Force Central Adjudication Facility, DoD Joint Personnel Adjudication System Program Office, 229 Brookley Avenue, Bolling Air Force Base, Washington, DC 20332-7040.

Individual should provide their full name (and any alias and/or alternate names used), Social Security Number, and date and place of birth.

Records Access Procedures:

Individual seeking information about themselves contained in this system should address written inquiries to the Department of the Air Force, Air Force Central Adjudication Facility, DoD Joint Personnel Adjudication System Program Office, 229 Brookley Avenue, Bolling Air Force Base, Washington, DC 20332-7040.

Individual should provide their full name (and any alias and/or alternate names used), Social Security Number, and date and place of birth.

In addition, the requester must provide a notarized statement or an unsworn declaration made in accordance with 28 U.S.C. 1746, in the following format:

If executed without the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

Attorneys or other persons acting on behalf of an individual must provide written authorization from that individual for their representative to act on their behalf.

Contesting Records Procedures:

The Air Force rules for accessing records, and for contesting contents and appealing initial agency determinations are published in Air Force Instruction 37-132; 32 CFR part 806b; or may be obtained from the system manager.

Records Source Categories:

Information contained in this system is derived from the appropriate DOD personnel systems; records maintained by the DOD adjudicative agencies; and records maintained by security managers, special security officers, or other officials requesting and/or sponsoring the security eligibility determination for the individual. Additional information may be obtained from other sources (such as personnel security investigations, personal financial records, military service records, medical records and unsolicited sources.)

Exemptions Claimed for the System:

Investigatory material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with requirements of 5 U.S.C. 553(b)(1), (2), and (3), (c) and (e) published in 32 CFR part 806b. For additional information contact the system manager.

[FR Doc. 02-29813 Filed 11-27-02; 8:45 am]

BILLING CODE 5001-08-P